DEPARTMENT OF THE TREASURY

Submission for OMB Review; Comment Request

October 7, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW Washington, DC 20220.

DATES: Written comments should be received on or before November 17, 2003 to be assured of consideration.

Internal Revenue Service (IRS)

OMB Number: 1545-0028.

Form Number: IRS Forms 940 and 940-PR.

Type of Review: Extension.

Title: Form 940: Employer's Annual Federal Unemployment (FUTA) Tax Return; and Form 940-R: Planilla Para La Declaración Annual Del Patrono—La Contribución Federal Para El Desempleo (FUTA).

Description: Internal Revenue Code (IRC) section 3301 imposes a tax on employees based on the first $7,000 of taxable annual wages paid to each employee. IRS uses the information reported on Forms 940 and 940-PR (Puerto Rico) to ensure that employers have reported and figured the correct FUTA wages and tax.

Respondents: Business or other for-profit, Individuals or households, Farms.

Estimated Number of Respondents/Recordkeepers: 1,367,000.

Estimated Burden Hours Respondent/Recordkeepers:

| Form 940 | Form 940-PR
Recordkeeping | 13 hr., 52 min. | 14 hr., 35 min.
Learning about the law or the form | 1 hr., 17 min. | 1 hr., 0 min.
Preparing and sending the form to the IRS | 1 hr., 50 min. | 1 hr., 35 min.

Frequency of Response: Annually.

Estimated Total Reporting/Recordkeeping Burden: 20,940,530 hours.

OMB Number: 1545-0052.

Form Number: IRS Forms 990-PF and 4720.

Type of Review: Revision.

Title: Form 990-PF: Return of Private Foundation or Section 4974(a)(1) Nonexempt Charitable Trust Treated as a Private Foundation; and Form 4720: Return of Certain Excise Taxes on Charities and Other Persons Under Chapters 41 and 42 of the Internal Revenue Code.

Description: Internal Revenue Code (IRC) section 6033 requires all private foundations, including section 4947(a)(1) trusts treated as private foundations, to file an annual information return. Section 53.4940-1(a) of the Income Tax Regulations requires that the tax on net investment income be reported on the return filed under section 6033. Form 990-PF is used for this purpose. Section 6011 requires a report of taxes under Chapter 42 of the Code for prohibited acts by private foundation and certain related parties. Form 4720 is used by foundations and/or related persons to report prohibited activities in detail and pay the tax on them.

Respondents: Not-for-profit institutions.

Estimated Number of Respondents/Recordkeepers: 54,000.

Estimated Burden Hours Respondent/Recordkeeper:

| Form 990-PF | Form 4720
Recordkeeping | 141 hr., 20 min. | 39 hr., 55 min.
Learning about the law or the form | 28 hr., 8 min. | 16 hr., 30 min
Preparing the form | 33 hr., 33 min. | 23 hr., 0 min.
Copying, assembling, and sending the form to the IRS | 32 min. | 1 hr., 22 min.

Frequency of Response: Annually.

Estimated Total Reporting/Recordkeeping Burden: 11,057,373 hours.

OMB Number: 1545-0196.

Form Number: IRS Form 5527.

Type of Review: Revision.

Title: Split-Interest Trust Information Return.

Description: The data reported is used to verify the beneficiaries of a charitable remainder trust include the correct amounts in their tax returns, and that the split-interest trust is not subject to private foundation taxes.

Respondents: Business or other for-profit.

Estimated Number of Respondents/Recordkeepers: 88,640.

Estimated Burden Hours Respondent/Recordkeeper:

Recordkeeping | 62 hr., 24 min.
Learning about the law or the form | 11 hr., 19 min.
Preparing the form | 19 hr., 20 min.
Copying, assembling, and sending the form to the IRS | 1 hr., 52 min.

Frequency of Response: Annually.

Estimated Total Reporting/Recordkeeping Burden: 7,502,233 hours.

OMB Number: 1545-1222.

Form Number: IRS forms 8635 and 9383.

Type of Review: Extension.

Title: Form 8635: Federal Income Tax Products Order Blank; and Form 9383: Fax Order Blank for BPOL Reorders.

Description: Form 8635 serves as an order blank for participants of the BPOL Program. It collects information from banks, post offices and libraries detailing the quantities and types of tax forms and related materials that they will distribute to taxpayers during the tax-filing season. The fax sheet (Form 9383) allows participants to order products via fax.

Respondents: Business or other for-profit, Not-for-profit institutions, Federal Government, State, Local or Tribal Government.

Estimated Number of Respondents: 36,688.

Estimated Burden Hours Respondent: 6 minutes.

Frequency of Response: Annually.

Estimated Total Reporting Burden: 3,669 hours.

OMB Number: 1545-1851.

Regulation Project Number: REG-124312-02 Final.

Type of Review: Extension.

Title: Golden Parachute Payments.

Description: These regulations deny a deduction for excess parachute payments. A parachute payment is a payment in the nature of compensation to a disqualified individual that is contingent on a change in ownership or control of its corporation. Certain payments, including payments from a small corporation, are exempt from the definition of parachute payment if certain requirements are met (such as shareholder approval and disclosure requirements).

Respondents: Business or other for-profit.

Estimated Number of Respondents: 800.

Estimated Burden Hours Respondent: 15 hours.

Frequency of Response: On occasion.

Estimated Total Reporting Burden: 12,000 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 03-26173 Filed 10-16-03; 8:45 am]

BILLING CODE 4830-01-P